DEPARTMENT OF COMMERCE

National Oceanic and Atmospheric Administration

Membership of the National Oceanic and Atmospheric Administration Performance Review Board

AGENCY: National Oceanic and Atmospheric Administration (NOAA), Department of Commerce (DOC).

ACTION: Notice of Membership of the NOAA Performance Review Board.

SUMMARY: NOAA announces the appointment of members who will serve on the NOAA Performance Review Board (PRB). The NOAA PRB is responsible for reviewing performance appraisals and ratings of Senior Executive Service (SES), Senior Level (SL), and Scientific and Professional (ST) members and making written recommendations to the appointing authority on retention and compensation matters, including performance-based pay adjustments, awarding of bonuses, and reviewing recommendations for potential Presidential Rank Award nominees. The appointment of members to the NOAA PRB will be for a period of two (2) years.

DATES: Effective Date: The effective date of service of the nine appointees to the NOAA Performance Review Board is September 30, 2016.

FOR FURTHER INFORMATION CONTACT: Christine Nalli, Director, Executive Resources Division, Workforce Management Office, NOAA, 1305 East-West Highway, Silver Spring, Maryland 20910, (301) 713-6357.

SUPPLEMENTARY INFORMATION: The names and positions of the members for the 2016 NOAA PRB are set forth below:

John D. Murphy, Chair: Chief Operating Officer National Weather Service

RDML Anita L. Lopez, Co-Chair: Deputy Director for Operations, OMAO and Deputy Director, NOAA Corps, Office of Marine and Aviation Operations

Jon Alexander: Deputy Director, Financial Management Systems, U.S. Department of Commerce

Gordon T. Alston: Director, Financial Reporting And Internal Controls, U.S. Department of Commerce

Christopher Cartwright: Chief Financial Officer/Chief Administrative Officer, National Ocean Service

Ciaran M. Clayton: Director of Communications, Office of the Under Secretary

Zachary G. Goldstein: Chief Information Officer and Director for High Performance Computing and Communications, Office of the Deputy Under Secretary

Irene Parker: Assistant Chief Information Officer, National Environmental Satellite Data and Information Service

Russell F. Smith, III: Deputy Assistant Secretary for International Fisheries, Office of the Deputy Under Secretary

Dated: August 19, 2016.
Kathryn D. Sullivan,
Under Secretary of Commerce for Oceans and Atmosphere.

[FR Doc. 2016-21478 Filed 9-7-16; 8:45 am]

BILLING CODE 3510-12-P